COMMODITY FUTURES TRADING COMMISSION

Self-Regulation and Self-Regulatory Organizations in the Futures Industry

AGENCY: Commodity Futures Trading Commission (“Commission”).

ACTION: Extension of comment period.

SUMMARY: The Commission is extending the time for interested parties to respond to the Commission's Request for Comments on Self-Regulation and Self-Regulatory Organizations in the Futures Industry, published in the Federal Register on November 25, 2005.¹

¹ 70 FR 71090 (November 25, 2005).

DATES: Responses must be received by January 23, 2006.

ADDRESSES: Written responses should be sent to Jean A. Webb, Secretary, Commodity Futures Trading Commission, Three Lafayette Center, 1155 21st Street, NW., Washington, DC 20581. Responses may also be submitted via e-mail at secretary@cftc.gov. “Self-Regulation and Self-Regulatory Organizations” must be in the subject field of responses submitted via e-mail, and clearly indicated in written submissions. This document is also available for comment at http://www.regulations.gov.

FOR FURTHER INFORMATION CONTACT: Stephen Braverman, Deputy Director, (202) 418-5487; Rachel Berdansky, Special Counsel, (202) 418-5429; or Sebastian Pujol Schott, Attorney-Advisor, (202) 418-5641. Division of Market Oversight, Commodity Futures Trading Commission, Three Lafayette Center, 1155 21st Street, NW., Washington, DC 20581.

SUPPLEMENTARY INFORMATION: On November 25, 2005, the Commission published in the Federal Register a Request for Comments on Self-Regulation and Self-Regulatory Organizations (“SROs”). The Request for Comments advances the Commission's review of self-regulation in the U.S. futures industry (“SRO Study”) by updating prior fact-finding, acknowledging recent industry developments, and offering interested parties an additional opportunity to comment as the SRO Study nears conclusion. Among other things, the Request for Comments addresses SRO governance; minimizing conflicts of interest within self-regulatory; the composition of SROs' boards of directors and disciplinary committees; the proper role and authority of independent, board-level regulatory oversight committees; and the impact of increasing competition, changing business models, and new ownership structures of SROs' self-regulatory responsibilities. Interested parties were invited to respond by January 9, 2006.

By letter dated December 7, 2005, the Futures Industry Association (“FIA”) requested that the original comment period be extended by 14 days. To encourage the submission of meaningful comments, the Commission has decided to grant the FIA's request. The comment period on the Request for Comments on Self-Regulation and Self-Regulatory Organizations is hereby extended to January 23, 2006.

The Commission has previously indicated that the current Request for Comments, the 2004 Request for Comments on SRO Governance,² and industry developments since the start of the SRO Study, would form the basis of a public Commission meeting on self-regulation and self-regulatory organizations (“SRO Hearing”). The SRO Hearing has now been scheduled. Interested parties are directed to a Notice of Public Meeting (“Notice”), also published in today's Federal Register, for details on the date, time, and place of the SRO Hearing. Persons wishing to address the Commission must file a request to appear and supporting materials, as explained in the Notice.

² 69 FR 32326 (June 9, 2004).

Issued in Washington, DC on December 15, 2005, by the Commission.
Jean A. Webb,
Secretary of the Commission.

[FR Doc. 05-24292 Filed 12-20-05; 8:45 am]

BILLING CODE 6351-01-M